DEPARTMENT OF THE INTERIOR

National Park Service

[NPS-AKR-GAAR-NPS0033345; PPAKGAARC6 PPMPRLE1Z.LS0000; OMB Control Number 1024-NEW]

Agency Information Collection Activities; Gates of the Arctic National Park and Preserve (GAAR), Dall's Sheep Traditional Cultural Landscape Study

AGENCY: National Park Service, Interior.

ACTION: Notice of information collection; request for comment.

SUMMARY: In accordance with the Paperwork Reduction Act of 1995 we, the National Park Service (NPS), are proposing a new information collection.

DATES: Interested persons are invited to submit comments on or before August 5, 2022.

ADDRESSES: Please provide a copy of your comments to the NPS Information Collection Clearance Officer (ADIR-ICCO), 12201 Sunrise Valley Drive, (MS -242) Reston, VA 20191 (mail); or phadrea_ponds@nps.gov (email). Please include “1024-NEW GAAR Dall's Sheep” in the subject line of your comments.

FOR FURTHER INFORMATION CONTACT: To request additional information about this ICR, contact Marcy Okada by email at marcy_okada@nps.gov, or by telephone at (907) 455-0639. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA) and 5 CFR 1320.8(d)(1), all information collections require approval under the PRA. We may not conduct, or sponsor, and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology (e.g., permitting electronic submission of response).

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Alaska National Interest Lands Conservation Act (ANILCA) provides the opportunity for qualified rural residents to harvest subsistence resources in national parks, preserves and monuments in Alaska. Under the provisions of ANILCA, subsistence harvests by local rural residents are considered to be the priority consumptive use of park resources. This collection will gather traditional use information on subsistence harvest patterns, specifically Dall's sheep (Ovis dalli) in the southern Brooks Range, within Gates of the Arctic National Park and Preserve (GAAR). This project will be a collaborative practice of research that will include in-person interviews with sheep hunters living in the Alaska Native villages of Alatna and Allakaket. This collection will provide a better understanding about the experiences of local subsistence harvesters and the importance of cultural and traditional knowledge regarding Dall's Sheep.

Title of Collection: Gates of the Arctic National Park and Preserve (GAAR), Dall's Sheep Traditional Cultural Landscape Study.

OMB Control Number: 1024-NEW.

Form Number: None.

Type of Review: New.

Respondents/Affected Public: Individuals or households involved in Sheep Hunting; state, local or Tribal Government.

Total Estimated Number of Annual Respondents: 20.

Estimated Completion Time per Response: 60 minutes.

Total Estimated Number of Annual Burden Hours: 20 hours.

Respondent's Obligation: Voluntary.

Frequency of Collection: Once.

Total Estimated Annual Nonhour Burden Cost: None.

An agency may not conduct or sponsor nor is a person is required to respond to a collection of information unless it displays a currently valid OMB control number.

The authority for this action is the Paperwork Reduction Act of 1995 (44 U.S.C. 3501 et seq.).

Phadrea Ponds,
Information Collection Clearance Officer, National Park Service.

[FR Doc. 2022-12062 Filed 6-3-22; 8:45 am]

BILLING CODE 4312-52-P